DEPARTMENT OF COMMERCE

National Oceanic and Atmospheric Administration

RIN 0648-XE333

Notice of Availability of a Draft Programmatic Environmental Assessment for Fisheries and Ecosystem Research Conducted and Funded by the National Marine Fisheries Service, Pacific Islands Fisheries Science Center

AGENCY: National Marine Fisheries Service (NMFS), National Oceanic and Atmospheric Administration (NOAA), Commerce.

ACTION: Notice of availability of a Draft Programmatic Environmental Assessment; request for comments.

SUMMARY: NMFS announces the availability of the “Draft Programmatic Environmental Assessment (DPEA) for Fisheries and Ecosystem Research Conducted and Funded by the Pacific Islands Fisheries Science Center (PIFSC).” Publication of this notice begins the official public comment period for this DPEA. The purpose of the DPEA is to evaluate, in compliance with the National Environmental Policy Act (NEPA), the potential direct, indirect, and cumulative impacts of conducting and funding fisheries and ecosystem research in NOAA's Pacific Islands Region.

DATES: Comments and information must be received no later than January 4, 2016.

ADDRESSES: Comments on the DPEA should be addressed to: NOAA IRC, NMFS/PIFSC/Director's Office, 1845 Wasp Blvd., Bldg. #176, Honolulu, HI 96818. The mailbox address for providing email comments is pifsc.nepa@noaa.gov. NMFS is not responsible for email comments sent to addresses other than the one provided here. Comments sent via email, including all attachments, must not exceed a 10-megabyte file size. A copy of the DPEA may be obtained by writing to the address specified above, telephoning the contact listed below (see FOR FURTHER INFORMATION CONTACT), or visiting the internet at: http://www.pifsc.noaa.gov/nepa Documents cited in this notice may also be viewed, by appointment, during regular business hours, at the aforementioned address.

FOR FURTHER INFORMATION CONTACT: Matthew Vandersande, (808) 725-5333.

SUPPLEMENTARY INFORMATION: PIFSC is the research arm of NMFS in the Pacific Islands Region. PIFSC conducts research and provides scientific advice to manage fisheries and conserve protected species throughout the Western and Central Pacific Ocean, including the State of Hawaii, Territory of American Samoa, Territory of Guam, the Commonwealth of the Mariana Islands, and the Pacific Remote Island Areas. Research is aimed at monitoring fish stock recruitment, survival, and biological rates; abundance and geographic distribution of both pelagic and insular marine species; and providing other scientific information needed to improve our understanding of complex marine ecological processes. Primary research activities include: Mid-water trawl surveys to support assessments of pelagic stages of insular species and other mesopelagic organisms; dive surveys to conduct coral reef ecosystem assessment and monitoring; hook-and-line surveys to collect fishery life history samples and deploy telemetry tags; marine debris research and removal activities; advanced sampling technology surveys (e.g. stereo-video cameras, autonomous underwater vehicles) to assess and monitor marine organisms and habitats; longline surveys for life history studies and bycatch reduction research; ecosystem surveys using active acoustic systems, plankton nets, and other oceanographic equipment; and collaborative research in foreign territorial seas. NMFS has prepared the DPEA under NEPA to evaluate several alternatives for conducting and funding fisheries and ecosystem research activities as the primary federal action. Additionally in the DPEA, NMFS evaluates a related action—also called a “connected action” under 40 CFR 1508.25 of the Council on Environmental Quality's regulations for implementing the procedural provisions of NEPA (42 U.S.C. 4321 et seq.)—which is the proposed promulgation of regulations and authorization of the take of marine mammals incidental to the fisheries research under the Marine Mammal Protection Act (MMPA). Additionally, because the proposed research activities occur in areas inhabited by species of marine mammals, birds, sea turtles, and fish listed under the Endangered Species Act (ESA) as threatened or endangered, this DPEA evaluates activities that could result in unintentional takes of ESA-listed marine species. The following four alternatives are currently evaluated in the DPEA:

• No-Action/Status Quo Alternative—Conduct Federal Fisheries and Ecosystem Research with Scope and Protocols Similar to Past Effort.

• Preferred Alternative—Conduct Federal Fisheries and Ecosystem Research (New Suite of Research) with Mitigation for MMPA and ESA Compliance.

• Modified Research Alternative— Conduct Federal Fisheries and Ecosystem Research (New Suite of Research) with Additional Mitigation.

• No Research Alternative—No Fieldwork for Federal Fisheries and Ecosystem Research Conducted or Funded by PIFSC.

The first three alternatives include a program of fisheries and ecosystem research projects conducted or funded by the PIFSC as the primary federal action. Because this primary action is connected to a secondary federal action (also called a connected action under NEPA), to consider authorizing incidental take of marine mammals under the MMPA, NMFS must identify as part of this evaluation “(t)he means of effecting the least practicable adverse impact on the species or stock and its habitat.” (Section 101(a)(5)(A) of the MMPA [16 U.S.C. 1361 et seq.]). NMFS must therefore identify and evaluate a reasonable range of mitigation measures to minimize impacts to protected species that occur in PIFSC research areas. These mitigation measures are considered as part of the identified alternatives in order to evaluate their effectiveness to minimize potential adverse environmental impacts. The three action alternatives also include mitigation measures intended to minimize potentially adverse interactions with other protected species that occur within the action area. Protected species include all marine mammals, which are covered under the MMPA, all species listed under the ESA, and bird species protected under the Migratory Bird Treaty Act. NMFS is also evaluating a second type of no-action alternative that considers no federal funding for field fisheries and ecosystem research activities. This is called the No Research Alternative to distinguish it from the No-Action/Status Quo Alternative. The No-Action/Status Quo Alternative will be used as the baseline to compare all of the other alternatives. Potential direct and indirect effects on the environment are evaluated under each alternative in the DPEA. The environmental effects on the following resources are considered: Physical environment, special resource areas, fish, marine mammals, birds, sea turtles, invertebrates, and the social and economic environment. Cumulative effects of external actions and the contribution of fisheries research activities to the overall cumulative impact on the aforementioned resources is also evaluated in the DPEA for the three main geographic regions in which PIFSC surveys are conducted. NMFS requests comments on the DPEA for Fisheries and Ecosystem Research Conducted and Funded by the National Marine Fisheries Service, Pacific Islands Fisheries Science Center. Please include, with your comments, any supporting data or literature citations that may be informative in substantiating your comment.

Dated: November 23, 2015.
Michael P. Seki,
Director, Pacific Islands Fisheries Science Center, National Marine Fisheries Service.

[FR Doc. 2015-30674 Filed 12-3-15; 8:45 am]

BILLING CODE 3510-22-P